DEPARTMENT OF TRANSPORTATION

Surface Transportation Board

[STB Finance Docket No. 35066]

Columbia Basin Railroad Company, Inc.—Acquisition and Operation Exemption—BNSF Railway Company and BNSF Acquisition, Inc.

Columbia Basin Railroad Company, Inc. (CBRW), a Class III rail carrier, has filed a verified notice of exemption under 49 CFR 1150.41 to acquire, by purchase pursuant to an agreement it anticipates entering into with BNSF Railway Company and BNSF Acquisition, Inc., and to operate approximately 74 miles of rail lines as follows: (1) From milepost 186.9 at or near Connell to milepost 145.7 at or near Wheeler, WA; (2) from milepost 0.0 at or near Bassett Junction to milepost 12.5 at or near Schrag, WA; (3) from milepost 20.0 at or near Moses Lake to milepost 5.6 at or near Sieler, WA; and (4) from milepost 5.6 at or near Sieler to milepost 0.0 at or near Wheeler. In addition, CBRW intends to acquire incidental trackage rights for local and overhead rail service over approximately 13 miles of rail line from milepost 1987 at or near Othello to the end of the track at milepost 1974 at or near Warden, WA. CBRW has leased, operated and performed trackage rights services over substantially the same rail lines since December 1996.¹

¹ See Columbia Basin Railroad Company, Inc.—Exemption to Lease and Operate—Burlington Northern Railroad Co. and BNSF Acquisition, Inc., STB Finance Docket No. 33140 (STB served Dec. 13, 1996).

CBRW certifies that its projected annual revenues as a result of this transaction will not result in the creation of a Class II or Class I rail carrier.

CBRW states that it intends to consummate the transaction on or after December 1, 2007, but shall in no event consummate the transaction before the Board either grants its petition for waiver of the 60-day labor notice requirement or CBRW satisfies the applicable labor notice requirement at 49 CFR 1150.42(e).²

² On November 1, 2007, CBRW concurrently filed a certification of labor notice compliance and a petition for waiver of the 60-day advance labor notice requirement at 49 CFR 1150.42(e). That request will be addressed in a separate decision. Unless the Board grants the waiver request, the earliest this transaction may be consummated will be December 31, 2007.

If the verified notice contains false or misleading information, the exemption is void ab initio. Petitions to revoke the exemption under 49 U.S.C. 10502(d) may be filed at any time. The filing of a petition to revoke will not automatically stay the effectiveness of the exemption. Stay petitions must be filed no later than 7 days before the exemption becomes effective.

An original and 10 copies of all pleadings, referring to STB Finance Docket No. 35066, must be filed with the Surface Transportation Board, 395 E Street, SW., Washington, DC 20423-0001. In addition, a copy of each pleading must be served on Rose-Michele Nardi, Weiner Brodsky Sidman Kider PC, 1300 19th Street, NW., Fifth Floor, Washington, DC 20036-1609.

Board decisions and notices are available on our Web site at http://www.stb.dot.gov.

Decided: November 9, 2007.
By the Board, David M. Konschnik, Director, Office of Proceedings.
Vernon A. Williams,
Secretary.

[FR Doc. E7-22359 Filed 11-15-07; 8:45 am]

BILLING CODE 4915-01-P